DEPARTMENT OF COMMERCE

International Trade Administration

[A-533-824]

Polyethylene Terephthalate Film, Sheet, and Strip From India: Final Results of Antidumping Duty Administrative Review; 2016-2017

AGENCY: Enforcement and Compliance, International Trade Administration, U.S. Department of Commerce.

SUMMARY: The Department of Commerce (Commerce) determines that Jindal Poly Films Ltd. (India) made sales of subject merchandise below normal value, and that SRF Limited of India did not. The period of review (POR) is July 1, 2016, through June 30, 2017.

DATES: Applicable March 13, 2019.

FOR FURTHER INFORMATION CONTACT: Jacqueline Arrowsmith at (202) 482-5255, AD/CVD Operations, Office VII, Enforcement and Compliance, International Trade Administration, U.S. Department of Commerce, 1401 Constitution Avenue NW, Washington, DC 20230.

SUPPLEMENTARY INFORMATION:

Background

On August 10, 2018, Commerce published the Preliminary Results.¹ For a history of events that have occurred since the Preliminary Results, see the Issues and Decision Memorandum.² On November 27, 2018, we extended the deadline for these Final Results from December 10, 2018 until January 11, 2019.³ Commerce exercised its discretion to toll all deadlines affected by the partial federal government closure from December 22, 2018, through the resumption of operations on January 29, 2019.⁴ Accordingly, the revised deadline for these Final Results of this administrative review became February 20, 2019. On February 14, 2019, we extended the deadline for these Final Results until March 6, 2019.⁵

¹ See Polyethylene Terephthalate Film, Sheet, and Strip from India: Preliminary Results and Partial Rescission of Antidumping Duty Administrative Review; 2016-2017, 83 FR 39667 (August 10, 2018) (Preliminary Results).

² See Department Memorandum, “Issues and Decision Memorandum for the Final Results of Antidumping Duty Administrative Review: Polyethylene Terephthalate Film from India; 2016-2017 Administrative Review” (Issues and Decision Memorandum), dated concurrently with, and hereby adopted by, this notice.

³ See Memorandum, “Polyethylene Terephthalate Film, Sheet and Strip from India: Extension of Deadline for Final Results of Antidumping Duty Administrative Review,—2016-2017,” dated November 27, 2018.

⁴ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁵ See Memorandum, “Polyethylene Terephthalate Film, Sheet and Strip from India: Extension of Deadline for Final Results of Antidumping Duty Administrative Review,—2016-2017,” dated February 14, 2019.

Scope of the Order

The merchandise subject to the order is polyethylene terephthalate film, sheet, and strip (PET Film). The PET Film subject to the order is currently classifiable under subheading 3920.62.00.90 of the Harmonized Tariff Schedule of the United States.⁶

⁶ For a full description of the scope of the order see the Issues and Decision Memorandum.

Analysis of Comments Received

The issues raised in the case and rebuttal briefs that were submitted by interested parties are discussed in the Issues and Decision Memorandum. The Issues and Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Issues and Decision Memorandum can be accessed directly on the internet at http://enforcement.trade.gov/frn/. The signed Issues and Decision Memorandum and the electronic versions of the Issues and Decision Memorandum are identical in content.

A list of the issues that parties raised, and to which we responded in the Issues and Decision Memorandum, is attached to this notice in the Appendix.

Changes Since the Preliminary Results

Based on our analysis of the comments received from parties, we made certain changes to Jindal's margin calculations ⁷ and SRF's margin calculations.⁸

⁷ See Issues and Decision Memorandum; see also Analysis Memorandum for the Final Results of the Antidumping Duty Administrative Review of Polyethylene Terephthalate Film, Sheet, and Strip from India: Jindal Poly Films Limited (Jindal), dated concurrently with this memorandum (Jindal Final Analysis Memo).

⁸ See Issues and Decision Memorandum; see also Analysis Memorandum for the Final Results of the Antidumping Duty Administrative Review of Polyethylene Terephthalate Film, Sheet, and Strip from India: SRF Limited (SRF), dated concurrently with this memorandum (SRF Final Analysis Memo).

Final Results of Review

As a result of this review, we determine the following weighted-average dumping margins for the period July 1, 2016, through June 30, 2017.

⁹ As we noted in the Preliminary Results, Commerce has determined that Jindal Poly Films Limited of India is the same company as Jindal Poly Films Ltd. (India).

Manufacturer/exporter | Weighted- average margin (percent)
Jindal Poly Films Limited of India ⁹ | 5.95
SRF Limited/SRF Limited of India | 0.00

Disclosure and Public Comment

We intend to disclose the calculations performed to parties in this proceeding within five days after public announcement of these Final Results, in accordance with section 751(a) and 19 CFR 351.224(b).

Assessment Rates

Upon completion of this administrative review, Commerce shall determine and U.S. Customs and Border Protection (CBP) shall assess antidumping duties on all appropriate entries. Because SRF's weighted-average dumping margin have been determined to be zero or de minimis within the meaning of 19 CFR 351.106(c), we will instruct CBP to liquidate the appropriate entries without regard to antidumping duties. Commerce intends to issue assessment instructions directly to CBP 15 days after publication of these final results of review. For Jindal, we will base the assessment rate for the corresponding entries on the margin listed above.

For entries of subject merchandise produced by Jindal or SRF for which it did not know its merchandise was destined for the United States, we will instruct CBP to liquidate unreviewed entries at the all-others rate established in the less-than fair value (LTFV) investigation, 5.71 percent,¹⁰ if there is no rate for the intermediate company(ies) involved in the transaction.¹¹ Pursuant to 19 CFR 351.106(c)(2), we will instruct CBP to liquidate without regard to antidumping duties any entries produced and/or exported by SRF during the POR.

¹⁰ See Notice of Amended Final Antidumping Duty Determination of Sales at Less Than Fair Value and Antidumping Duty Order: Polyethylene Terephthalate Film, Sheet, and Strip from India, 67 FR 44175 (July 1, 2002) (Amended Final Determination).

¹¹ See Antidumping Proceedings: Calculation of the Weighted-Average Dumping Margin and Assessment Proceedings; Final Modification, 77 FR 8101, 8102 (February 14, 2012) (Final Modification).

Cash Deposit Requirements

The following deposit requirements will be effective for all shipments of PET Film from India entered, or withdrawn from warehouse, for consumption on or after the date of publication of the Final Results of this administrative review, as provided for by section 751(a)(2)(C) of the Act: (1) The cash deposit rate will be zero percent for merchandise exported by SRF; (2) the cash deposit rate will be 5.95 percent for merchandise exported by Jindal; (3) for previously reviewed or investigated companies not listed above, the cash deposit rate will continue to be the company-specific rate published for the most recent period; (4) if the exporter is not a firm covered in this review, a prior review, or the less-than-fair-value investigation, but the manufacturer is, the cash deposit rate will be the rate established for the most recent period for the manufacturer of the merchandise; and (5) the cash deposit rate for all other manufacturers or exporters is 5.71 percent.¹² These cash deposit requirements, when imposed, shall remain in effect until further notice.

¹² See Amended Final Determination.

Notification to Interested Parties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notifications to Interested Parties

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Commerce is issuing and publishing these final results of administrative review in accordance with sections 751(a)(1) and 777(i)(1) of the Act, and 19 CFR 351.221.

Dated: March 5, 2019.
Gary Taverman,
Deputy Assistant Secretary for Antidumping and Countervailing Duty Operations, performing the non-exclusive functions and duties of the Assistant Secretary for Enforcement and Compliance.

Appendix

List of Topics Discussed in the Decision Memorandum

I. Summary

II. List of Issues

III. Background

IV. Scope of the Order

V. Changes Made Since the Preliminary Results

VI. Discussion of the Issues

Comment 1: Whether To Grant Certain Post-Sale Price Adjustments to Jindal for the Final Results

Comment 2: Whether To Continue To Grant Certain Post-Sale Price Adjustments to SRF for the Final Results

Comment 3: Whether To Use the Export Subsidy Rates Calculated in the 2016 Countervailing Duty Administrative Review as the Export Subsidy Offset in This Administrative Review

Comment 4: Whether To Revise Jindal's Home Market and Margin Programs

Comment 5: Whether To Revise SRF's Home Market Program

VII. Recommendation

[FR Doc. 2019-04624 Filed 3-12-19; 8:45 am]

BILLING CODE 3510-DS-P